DEPARTMENT OF TRANSPORTATION

Federal Aviation Administration

14 CFR Part 39

[Docket No. FAA-2023-0427; Project Identifier MCAI-2022-01370-T; Amendment 39-22488; AD 2023-13-03]

RIN 2120-AA64

Airworthiness Directives; Airbus SAS Airplanes

AGENCY: Federal Aviation Administration (FAA), DOT.

ACTION: Final rule.

SUMMARY: The FAA is adopting a new airworthiness directive (AD) for all Airbus SAS Model A318, A319, A320, and A321 series airplanes. This AD was prompted by reports where the passenger door external handle mechanism was not retrieving its normal, flush position when the door was being closed. This AD requires a one-time cleaning and lubrication of the external door handle mechanism of each affected door, and limits the installation of affected parts, as specified in a European Union Aviation Safety Agency (EASA) AD, which is incorporated by reference. The FAA is issuing this AD to address the unsafe condition on these products.

DATES: This AD is effective September 5, 2023.

The Director of the Federal Register approved the incorporation by reference of a certain publication listed in this AD as of September 5, 2023.

ADDRESSES:

AD Docket: You may examine the AD docket at regulations.gov under Docket No. FAA-2023-0427; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material incorporated by reference in this AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195. It is also available in the AD docket at regulations.gov under Docket No. FAA-2023-0427.

FOR FURTHER INFORMATION CONTACT: Timothy Dowling, Aviation Safety Engineer, FAA, 1600 Stewart Avenue, Suite 410, Westbury, NY 11590; phone 206-231-3667; email Timothy.P.Dowling@faa.gov.

SUPPLEMENTARY INFORMATION:

Background

The FAA issued a notice of proposed rulemaking (NPRM) to amend 14 CFR part 39 by adding an AD that would apply to all Airbus SAS Model A318-111, A318-112, A318-121, A318-122, A319-111, A319-112, A319-113, A319-114, A319-115, A319-131, A319-132, A319-133, A319-151N, A319-153N, A319-171N, A320-211, A320-212, A320-214, A320-216, A320-231, A320-232, A320-233, A320-251N, A320-252N, A320-253N, A320-271N, A320-272N, A320-273N, A321-111, A321-112, A321-131, A321-211, A321-212, A321-213, A321-231, A321-232, A321-251N, A321-251NX, A321-252N, A321-252NX, A321-253N, A321-253NX, A321-271N, A321-271NX, A321-272N, and A321-272NX airplanes. The NPRM published in the Federal Register on March 8, 2023 (88 FR 14298). The NPRM was prompted by AD 2022-0213R1, dated November 8, 2022, issued by EASA, which is the Technical Agent for the Member States of the European Union (EASA AD 2022-0213R1) (also referred to as the MCAI). The MCAI states one operator has reported two cases of a passenger/flight crew door external handle flap remained stuck in an intermediate or fully pushed position (not flush with the door skin) on two recently delivered Model A320 series airplanes after the door was opened from outside. With the external handle flap in this intermediate position, in one of the reported cases, the operator was not able to open the door normally from inside. Subsequent investigation determined that on the production line of one door supplier, corrosion protection compound (CPC) was inadvertently applied to the movable parts of the mechanism during production. The CPC, when applied to these parts leads to a sticky effect and prevents the passenger door external handle flap from moving to the closed position, which is flush with the fuselage skin.

In the NPRM, the FAA proposed to require a one-time cleaning and lubrication of the external door handle mechanism of each affected door, and to limit the installation of affected parts, as specified in EASA AD 2022-0213R1. The FAA is issuing this AD to address external door handle mechanisms coated with CPC preventing the passenger door external handle flap from moving to the closed position, which if not addressed, could inhibit opening the door from the inside, or allow the door to open, automatically disarming the slide/raft, which would result in its non-automatic deployment. Both scenarios could delay a safe evacuation of airplane occupants during an emergency.

You may examine the MCAI in the AD docket at regulations.gov under Docket No. FAA-2023-0427.

Discussion of Final Airworthiness Directive

Comments

The FAA received comments from Air Line Pilots Association, International (ALPA) who supported the NPRM without change.

The FAA received additional comments from Delta Air Lines (DAL) and United Airlines (UAL). The following presents the comments received on the NPRM and the FAA's response to each comment.

Request To Add an Exception To Allow Maintenance Records Review

DAL requested that the NPRM be revised to add an exception to allow a records review by DAL Engineering to determine the airplanes with affected passenger doors and to identify if any external control handle lubrication had already been accomplished prior to the inspection by DAL maintenance. DAL stated that its maintenance department is not typically responsible for performing records review as part of their responsibilities, as this is a function of the engineering department.

The FAA disagrees with adding an exception, since accomplishment of Paragraph 5.6, Steps (1) and (2) do not require review of maintenance records nor do they require maintenance personnel to conduct the review if DAL decides to use maintenance records to accomplish the AD actions as the DAL comment suggests. The FAA agrees that a review of the airplane maintenance records by engineering is acceptable to determine if an aircraft has an affected door or to verify control handle lubrication has already been accomplished. The FAA has not changed this AD in this regard.

Request To Revise Applicability To Include Affected Doors

UAL requested that paragraph (c) of the proposed AD be revised to include affected passenger doors to address part interchangeability. UAL stated that inclusion of the affected passenger door part numbers will help operators to identify the potential installation of the impacted doors within their fleet using the Illustrated Parts Catalog (IPC) for configuration control.

The FAA disagrees with the need to add door part numbers to this AD. The service information specified in EASA AD 2022-0213R1 identifies the suspect passenger doors by serial numbers. Further, the FAA agrees that the movement of doors within an operator's fleet is possible so this AD, as written, addresses the issue of rotability in two ways. First, the applicability in paragraph (c) of this AD includes all Airbus SAS Model A318, A319, A320, and A321 series airplanes. Second, the requirements of this AD include a parts installation limitation, as specified in EASA AD 2022-0213R1. Therefore, the FAA has not changed this AD in this regard.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, this AD is adopted as proposed in the NPRM. None of the changes will increase the economic burden on any operator.

Related Service Information Under 1 CFR Part 51

EASA AD 2022-0213R1 specifies procedures for cleaning and lubricating the movable parts of the external passenger door handle mechanism of affected doors. EASA AD 2022-0213R1 also limits the installation of affected parts. This material is reasonably available because the interested parties have access to it through their normal course of business or by the means identified in the ADDRESSES section.

Costs of Compliance

The FAA estimates that this AD affects 1,864 airplanes of U.S. registry. The FAA estimates the following costs to comply with this AD:

Estimated Costs for Required Actions
Labor cost | Parts cost | Cost per product | Cost on U.S. operators
Up to 4 work-hours × $85 per hour = $340 | $50 | Up to $390 | Up to $726,960.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-13-03 Airbus SAS: Amendment 39-22488; Docket No. FAA-2023-0427; Project Identifier MCAI-2022-01370-T.

(a) Effective Date

This airworthiness directive (AD) is effective September 5, 2023.

(b) Affected ADs

None.

(c) Applicability

This AD applies to all Airbus SAS airplanes identified in paragraphs (c)(1) through (4) of this AD, certificated in any category.

(1) Model A318-111, A318-112, A318-121, and A318-122 airplanes.

(2) Model A319-111, A319-112, A319-113, A319-114, A319-115, A319-131, A319-132, A319-133, A319-151N, A319-153N, and A319-171N airplanes.

(3) Model A320-211, A320-212, A320-214, A320-216, A320-231, A320-232, A320-233, A320-251N, A320-252N, A320-253N, A320-271N, A320-272N, and A320-273N airplanes.

(4) Model A321-111, A321-112, A321-131, A321-211, A321-212, A321-213, A321-231, A321-232, A321-251N, A321-251NX, A321-252N, A321-252NX, A321-253N, A321-253NX, A321-271N, A321-271NX, A321-272N, and A321-272NX airplanes.

(d) Subject

Air Transport Association (ATA) of America Code 52, Doors.

(e) Unsafe Condition

This AD was prompted by reports where the passenger door external handle mechanism was not allowing the flap handle to return to its normal, flush position when the door was being closed. Subsequent investigation concluded corrosion protection compound (CPC) was inadvertently applied to the movable parts of the mechanism during production. The CPC prevents the handle flap from moving to the closed position, flush with the fuselage skin. The unsafe condition, if not addressed, could inhibit opening the door from the inside, or allow the door to open, automatically disarming the slide/raft, which would result in its non-automatic deployment. Both scenarios could delay a safe evacuation of airplane occupants during an emergency.

(f) Compliance

Comply with this AD within the compliance times specified, unless already done.

(g) Requirements

Except as specified in paragraph (h) of this AD: Comply with all required actions and compliance times specified in, and in accordance with, European Union Aviation Safety Agency (EASA) AD 2022-0213R1, dated November 8, 2022 (EASA AD 2022-0213R1).

(h) Exceptions to EASA AD 2022-0213R1

(1) Where EASA AD 2022-0213R1 refers to November 3, 2022 (the effective of EASA AD 2022-0213, dated October 20, 2022), this AD requires using the effective date of this AD.

(2) This AD does not adopt the “Remarks” section of EASA AD 2022-0213R1.

(i) Additional AD Provisions

The following provisions also apply to this AD:

(1) Alternative Methods of Compliance (AMOCs): The Manager, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (j) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(3) Required for Compliance (RC): Except as required by paragraph (i)(2) of this AD, if any service information referenced in EASA AD 2022-0213R1 contains paragraphs that are labeled as RC, the instructions in RC paragraphs, including subparagraphs under an RC paragraph, must be done to comply with this AD; any paragraphs, including subparagraphs under those paragraphs, that are not identified as RC are recommended. The instructions in paragraphs, including subparagraphs under those paragraphs, not identified as RC may be deviated from using accepted methods in accordance with the operator's maintenance or inspection program without obtaining approval of an AMOC, provided the instructions identified as RC can be done and the airplane can be put back in an airworthy condition. Any substitutions or changes to instructions identified as RC require approval of an AMOC.

(j) Additional Information

For more information about this AD, contact Timothy Dowling, Aerospace Aviation Safety Engineer, FAA, 1600 Stewart Avenue, Suite 410, Westbury, NY 11590; phone 206-231-3667; email Timothy.P.Dowling@faa.gov.

(k) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2022-0213R1, dated November 8, 2022.

(ii) [Reserved]

(3) For EASA AD 2022-0213R1, contact EASA, Konrad-Adenauer-Ufer 3, 50668 Cologne, Germany; telephone +49 221 8999 000; email ADs@easa.europa.eu; website easa.europa.eu. You may find this EASA AD on the EASA website at ad.easa.europa.eu.

(4) You may view this material at the FAA, Airworthiness Products Section, Operational Safety Branch, 2200 South 216th St., Des Moines, WA. For information on the availability of this material at the FAA, call 206-231-3195.

(5) You may view this material that is incorporated by reference at the National Archives and Records Administration (NARA). For information on the availability of this material at NARA, email fr.inspection@nara.gov, or go to: www.archives.gov/federal-register/cfr/ibr-locations.html.

Issued on June 30, 2023.
Gaetano A. Sciortino,
Deputy Director for Strategic Initiatives, Compliance & Airworthiness Division, Aircraft Certification Service.

[FR Doc. 2023-16095 Filed 7-28-23; 8:45 am]

BILLING CODE 4910-13-P